NUCLEAR REGULATORY COMMISSION

Dominion Nuclear Connecticut, Inc., Millstone Power Station, Unit 2; Establishment of Atomic Safety and Licensing Board

[Docket No. 50-336-OLA-2; ASLBP No. 03-808-02-OLA]

Pursuant to delegation by the Commission dated December 29, 1972, published in the Federal Register, 37 FR 28710 (1972), and sections 2.105, 2.700, 2.702, 2.714, 2.714a, 2.717, 2.721, and 2.772(j) of the Commission's Regulations, all as amended, an Atomic Safety and Licensing Board is being established to preside over the following proceeding: Dominion Nuclear Connecticut, Inc., Millstone Power Station, Unit 2.

This Board is being established pursuant to a notice of consideration of issuance of an operating license amendment, proposed no significant hazards consideration determination, and opportunity for a hearing published in the Federal Register (67 FR 68731 (Nov. 12, 2002)). The proceeding involves a petition for intervention submitted December 12, 2002, by the Connecticut Coalition Against Millstone and the STAR Foundation challenging a request by Dominion Nuclear Connecticut, Inc., to amend the operating license for the Millstone Power Station, Unit 2. The amendment would change certain facility technical specifications relating to containment closure during activities in the spent fuel pool area.

The Board is comprised of the following administrative judges: Ann M. Young, Chair, Atomic Safety and Licensing Board Panel, U.S. Nuclear Regulatory Commission, Washington, DC 20555-0001; Dr. Richard F. Cole, Atomic Safety and Licensing Board Panel, U.S. Nuclear Regulatory Commission, Washington, DC 20555-0001; Dr. Thomas S. Elleman, Atomic Safety and Licensing Board Panel, U.S. Nuclear Regulatory Commission, Washington, DC 20555-0001.

All correspondence, documents, and other materials shall be filed with the administrative judges in accordance with 10 CFR 2.701.

Issued at Rockville, Maryland, this 6th day of January 2003.
G. Paul Bollwerk, III,
Chief Administrative Judge, Atomic Safety and Licensing Board Panel.

[FR Doc. 03-496 Filed 1-9-03; 8:45 am]

BILLING CODE 7590-01-P